FEDERAL DEPOSIT INSURANCE CORPORATION

Sunshine Act Meeting; Notice of Agency Meeting

Pursuant to the provisions of the ``Government in the Sunshine Act'' (5 U.S.C. 552b), notice is hereby given that the Federal Deposit Insurance Corporation's Board of Directors will meet in open session at 10 a.m. on Tuesday, July 11, 2006, to consider the following matters:

Summary Agenda: No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Proposed Amendment to Part 308 Increasing Fees for Late Assessment Penalties.

Memorandum and resolution re: Final Statement of Policy Regarding the National Historic Preservation Act of 1996.

Discussion Agenda:

Memorandum and resolution re: Notice of Proposed Rulemaking on Risk-Based Assessments.

Memorandum and resolution re: Notice of Proposed Rulemaking on Setting the Designated Reserve Ratio.

Memorandum and resolution re: Notice of Proposed Rulemaking Regarding the Official FDIC Sign and Advertising of FDIC Membership.

The meeting will be held in the Board Room on the sixth floor of the FDIC Building located at 550-17th Street, NW., Washington, DC.

The FDIC will provide attendees with auxiliary aids (e.g., sign language interpretation) required for this meeting. Those attendees needing such assistance should call (703) 562-6067 (Voice or TTY), to make necessary arrangements.

Requests for further information concerning the meeting may be directed to Ms. Valerie J. Best, Assistant Executive Secretary of the Corporation, at (202) 898-7122.

Dated: June 30, 2006.
Federal Deposit Insurance Corporation.
Valerie J. Best,
Assistant Executive Secretary.

[FR Doc. 06-6018 Filed 6-30-06; 1:37pm]

BILLING CODE 6714-01-M